DEPARTMENT OF THE INTERIOR

Fish and Wildlife Service

50 CFR Part 17

[Docket No FWS-HQ-ES-2015-0176; 4500030113]

RIN 1018-A104

Endangered and Threatened Wildlife and Plants; Proposed Removal of the Scarlet-Chested Parakeet and Turquoise Parakeet From the List of Endangered and Threatened Wildlife

AGENCY: Fish and Wildlife Service, Interior.

ACTION: Proposed rule; reopening of comment period.

SUMMARY: We, the U.S. Fish and Wildlife Service (Service), announce the reopening of the public comment period on our September 2, 2003, proposed rule to remove the scarlet-chested parakeet (Neophema splendida) and the turquoise parakeet (Neophema pulchella) from the List (List) of Endangered and Threatened Wildlife under the Endangered Species Act of 1973, as amended. We are taking this action to determine whether removing these species from the List is still warranted, and to ensure we get the best scientific and commercial information available.

DATES: We will consider comments received or postmarked on or before February 22, 2016. Comments submitted electronically using the Federal eRulemaking Portal (see ADDRESSES section, below) must be received by 11:59 p.m. Eastern Time on the closing date.

ADDRESSES: You may submit comments by one of the following methods:

(1) Electronically: Go to the Federal eRulemaking Portal: http://www.regulations.gov. In the Search field, enter FWS-HQ-ES-2015-0176, which is the docket number for this rulemaking. Then, click the Search button. You may submit a comment by clicking on “Comment Now!”

(2) By hard copy: Submit by U.S. mail or hand-delivery to: Public Comments Processing, Attn: FWS-HQ-ES-2015-0176, Division of Policy and Directives Management; U.S. Fish and Wildlife Service; MS: BPHC, 5275 Leesburg Pike, Falls Church, VA 22041-3803.

We request that you send comments only by the methods described above. We will post all comments on http://www.regulations.gov. This generally means that we will post any personal information you provide us (see the Public Comments section, below, for more information).

FOR FURTHER INFORMATION CONTACT: Janine Van Norman, Chief, Branch of Foreign Species, Ecological Services, U.S. Fish and Wildlife Service, MS: ES, 5275 Leesburg Pike, Falls Church, VA 22041-3803; telephone, 703-358-2171; facsimile, 703-358-1735. If you use a telecommunications device for the deaf (TDD), call the Federal Information Relay Service (FIRS) at 800-877-8339.

SUPPLEMENTARY INFORMATION:

Background

In our September 2, 2003 proposed rule (68 FR 52169), we proposed to remove the scarlet-chested parakeet (Neophema splendida) and the turquoise parakeet (Neophema pulchella) from the List of Endangered and Threatened Wildlife under the Act, because the endangered designation no longer correctly reflected the current conservation status of these birds. Our review of the status of the species at the time showed that the wild populations of these species were stable and increasing, with more than 20,000 breeding-age turquoise parakeets and 10,000 breeding-age scarlet-chested parakeets found throughout their range. Furthermore, trade in wild caught specimens was strictly limited, and the species' were protected through domestic regulation within the range country (Australia), as well as through additional national and international treaties and laws. Currently, the Act prohibits the import, export and interstate and foreign commerce of these species, unless the individual can prove that the otherwise prohibited act enhances the propagation or survival of the species, or it is for scientific research. Removal of these species from the List means that the protections of the Act will no longer apply. However, protections under the Convention on International Trade of Endangered Fauna and Flora the Lacey Act and the Wild Bird Conservation Act (for wild-caught specimens only) would remain unchanged.

For more information on previous Federal actions concerning the scarlet-chested and turquoise parakeet, or information regarding the species' biology, status, distribution, and habitat, refer to the proposed rule published in the Federal Register on September 2, 2003 (68 FR 52169), which is available online at http://www.gpo.gov/fdsys/granule/FR-2003-09-02/03-22225, or by mail from the U.S. Fish and Wildlife Service in Falls Church, VA (see FOR FURTHER INFORMATION CONTACT).

Public Comments

We will accept written comments and information during this reopened comment period on our proposal to remove the scarlet-chested parakeet (Neophema splendida) and the turquoise parakeet (Neophema pulchella) from the List. We will consider information and recommendations from all interested parties. We intend that any final action resulting from the proposal be as accurate as possible and based on the best available scientific and commercial data.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed listing, will be available for public inspection on http://www.regulations.gov at Docket No. FWS-HQ-ES-2015-0176, or by appointment, during normal business hours at the U.S. Fish and Wildlife Service, Falls Church, VA (see FOR FURTHER INFORMATION CONTACT).

Authors

The primary authors of this notice are staff members in the Ecological Services Program, U.S. Fish and Wildlife Service, Falls Church, VA.

Authority

The authority for this action is the Endangered Species Act of 1973, as amended (16 U.S.C. 1531 et seq.)

Dated: January 8, 2016.
Stephen Guertin,
Acting Director, U.S. Fish and Wildlife Service.

[FR Doc. 2016-01142 Filed 1-20-16; 8:45 am]

BILLING CODE 4333-55-P